DEPARTMENT OF EDUCATION

DEPARTMENT OF LABOR

Office of School-to-Work Opportunities; Advisory Council for School-to-Work Opportunities, Notice of Open Meeting

SUMMARY: The Advisory Council for School-to-Work Opportunities was established by the Departments of Education and Labor to advise the Departments on implementation of the School-to-Work Opportunities Act. The Council shall assess the progress of School-to-Work (STW) Opportunities systems development and program implementation; make recommendations regarding progress and implementation of the School-to-Work Opportunities initiative; advise on the effectiveness of the new Federal role in providing venture capital to States and localities to develop STW systems and act as advocates for implementing the STW on behalf of their stakeholders.

Time and Place: The Advisory Council for School-to-Work Opportunities will have an open meeting on Wednesday, May 31, 2000 from 8:30 am to 5 pm and on Thursday, June 1, 2000, from 8 am to 4 The meeting will be held at the Washington Court Hotel, Washington, DC.

Agenda: The agenda for the meeting on Wednesday, May 31 begins with opening remarks by the Co-Chair of the Advisory Council Jacquelyn Belcher, President, Perimeter College of Decatur, Georgia. Following the opening, the Council will meet with senior representatives of the Departments of Education and Labor, the State Directors for School-to-Work and others involved in School-to-Work system-building to engage in a review of the STW initiative. On Thursday, June 1, Council Chair John McKernan, President of McKernan Enterprises, Portland, Maine will reconvene the Council to continue the discussion of issues related to sustainability of the School-to-Work initiative with the State Directors for STW, with Department of Education and Labor officials and other national, state and local policymakers.

Public Participation: The meetings on Wednesday, May 31 and Thursday, June 1 will be open to the public. Seats will be reserved for the media. Individuals with disabilities in need of special accommodations should contact the Designated Federal Official (DFO), listed below, at least 7 days prior to the meeting.

FOR FURTHER INFORMATION CONTACT: Stephanie J. Powers, Designated Federal Officials (DFO), Advisory Council for School-to-Work Opportunities, Office of School-to-Work Opportunities, 400 Virginia Avenue, SW, Room 210, Washington, DC 202/401-6222. (This is not a toll free number.)

Signed at Washington, DC, this 12th day of May, 2000.
Raymond L. Bramucci,
Assistant Secretary for Employment and Training.
Robert Muller,
Acting Assistant Secretary for Vocational and Adult Education.

[FR Doc. 00-12401 Filed 5-16-00; 8:45 am]

BILLING CODE 4510-30-M